DEPARTMENT OF COMMERCE

National Oceanic and Atmospheric Administration

[RTID 0648-XD794]

South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of the Snapper Grouper Advisory Panel (AP) in Charleston, SC.

DATES: The Snapper Grouper AP will meet on March 26, 2024, from 1 p.m. until 5 p.m.; March 27, 2024, from 8:30 a.m. until 5 p.m.; and on March 28, 2024, from 8:30 a.m. until 12 p.m.

ADDRESSES: Meeting address: The meeting will be held at the Town & Country Inn and Suites, 2008 Savannah Highway, Charleston, SC 29407; telephone: (843) 334-6660.

FOR FURTHER INFORMATION CONTACT: Kim Iverson, Public Information Officer, SAFMC; telephone: (843) 571-4366 or toll free: (866) SAFMC-10; fax: (843) 769-4520; email: kim.iverson@safmc.net.

SUPPLEMENTARY INFORMATION: Meeting information, including the agenda, overview, briefing book materials, and an online public comment form will be posted on the Council's website at: https://safmc.net/advisory-panel-meetings/ two weeks prior to the meeting. The meeting is open to the public and available via webinar as it occurs. The webinar registration link will be available from the Council's website. Public comment will also be taken during the meeting.

The agenda for the Snapper Grouper AP meeting includes: Development of a Fishery Performance Report for hogfish; updates on Council discussions pertaining to federal commercial permits and limited access to the for-hire component of South Atlantic fisheries; and an update on the Snapper Grouper Management Strategy Evaluation. The AP will also receive updates on the following amendments to the Snapper Grouper Fishery Management Plan (FMP) for the South Atlantic currently under development: Amendment 55 (scamp and yellowmouth grouper), Regulatory Amendment 36 (gag, black grouper, and black sea bass on-demand pot gear), and Amendment 56 (black sea bass assessment response).

AP members will also receive updates on additional ongoing amendments to the Snapper Grouper FMP and other Council programs and initiatives. The AP will provide input and recommendations on agenda items for the Council's consideration and address other items as needed.

Special Accommodations

The meeting is physically accessible to people with disabilities. Requests for auxiliary aids should be directed to the Council office (see ADDRESSES) 3 days prior to the meeting.

Note: The times and sequence specified in this agenda are subject to change.

Authority: 16 U.S.C. 1801 et seq.

Dated: March 7, 2024.
Rey Israel Marquez,
Acting Deputy Director, Office of Sustainable Fisheries, National Marine Fisheries Service.

[FR Doc. 2024-05204 Filed 3-11-24; 8:45 am]

BILLING CODE 3510-22-P